DEPARTMENT OF THE INTERIOR

Bureau of Land Management

[WO-320-1990-PB-24 1A]

Information Collection Submitted to the Office of Management and Budget Under the Paperwork Reduction Act; OMB Approval Number 1004-0194

The Bureau of Land Management (BLM) has sent a request to extend the current information collection to the Office of Management and Budget (OMB) under the provisions of the Paperwork Reduction Act (44 U.S.C. 3501 et seq.). On July 30, 2002, the BLM published a notice in the Federal Register (67 FR 49369) requesting comment on this information collection. The comment period ended on September 30, 2002. BLM received no comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0194), at OMB-OIRA via facsimile to (202) 395-6566 or e-mail to OIRA_DOCKET@omb.eop.gov. Please provide a copy of your comments to the Bureau of Information Collection Clearance Officer (WO-630), Bureau of Land Management, Eastern States Office, 7450 Boston Blvd., Springfield, Virginia 22153.

Nature of Comments

We specifically request your comments on the following:

1. Whether the collection of information is necessary for the property functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Surface Management Activities under the General Mining Law of 1872 (43 CFR 3809).

OMB Approval Number: 1004-0194.

Bureau Form Numbers: 3809-1, 3809-2, 3809-4, 3809-4a, and 3809-5.

Abstract: The Bureau of Land Management (BLM) collects and uses the information to manage the surface management activities under the General Mining Law of 1872 and the regulations at 43 CFR 3809.

Frequency: Occasional.

Description of Respondents: Individuals, groups, or corporations.

Estimated Completion Time:

Information collected | Public burden hours/action | Estimated number actions | Total burden hours | Total public burden cost
Notices (nonform)
Small Exploration | 16 | 193 | 3,088 | $231,600
Medium Exploration | 48 | 193 | 9,264 | 694,800
Sub Total |  | 386 | 12,352 | 926,400
Plan of Operations
Exploration | 48 | 15 | 720 | 64,800
Placer | 160 | 67 | 10,720 | 964,800
Open Pit | 480 | 45 | 21,600 | 1,944,000
Industrial | 160 | 8 | 1,280 | 115,200
Underground | 160 | 7 | 1,120 | 100,800
Milling | 160 | 8 | 1,280 | 115,200
Sub Total |  | 150 | 36,720 | 3,304,800
NEPA
Exploration | 320 | 15 | 4,800 | 336,000
EA (Simple) | 320 | 82 | 26,240 | 1,836,800
EA (Standard) | 890 | 45 | 40,050 | 3,600,000
EIS | 2,480 | 8 | 19,840 | 4,075,600
Sub Total |  | 150 | 90,930 | 9,848,400
Section 106—NHPA | 30 | 150 | 4,500 | 744,490
Forms |  |  |  |
Financial Guarantee
Notices | ¹ 8 | 386 | 51 | 2,040
Plans of Operations | ¹ 8 | 150 | 21 | 840
Bond/Surety Riders or Change of Operator | ¹ 8 | 180 | 24 | 960
Sub Total |  | 716 | 96 | 3,840
Grand Total |  | 1,552 | 144,598 | 14,827,930
¹ Minutes.

Annual Responses: 1,552.

Application Fee Per Response: 0.

Annual Burden Hours: 144,598.

Bureau Clearance Officer: Michael Schwartz, (202) 452-5033.

Dated: November 6, 2003.
Michael H. Schwartz,
Bureau of Land Management, Information Collection Clearance Officer.

[FR Doc. 03-29000 Filed 11-19-03; 8:45 am]

BILLING CODE 4310-84-M